DEPARTMENT OF ENERGY

Federal Energy Regulatory Commission

[Docket No. CP00-452-000]

Colorado Interstate Gas Company; Notice of Intent to Prepare an Environmental Assessment for the Proposed Raton Basin Expansion Project and Request for Comments on Environmental Issues

October 20, 2000.

The staff of the Federal Energy Regulatory Commission (FERC or Commission) will prepare an environmental assessment (EA) that will discuss the environmental impacts of the Raton Basin Expansion Project involving construction and operation of facilities by Colorado Interstate Gas Company (CIG) in Baca and Las Animas Counties, Colorado; Cimarron, Texas, and Beaver Counties, Oklahoma; and Morton County, Kansas.¹ These facilities would consist of about 70 miles of various diameter pipeline and 18,050 horsepower (hp) of compression. This EA will be used by the Commission in its decision-making process to determine whether the project is in the public convenience and necessity.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice CIG provided to landowners. This fact sheet addresses a number of typically asked questions, including the use of eminent domain and how to participate in the Commission's proceedings. It is available for viewing on the FERC Internet website (www.ferc.fed.us).

Summary of the Proposed Project

¹ CIG's application was filed with the Commission under section 7 of the Natural Gas Act and Part 157 of the Commission's regulations.

CIG wants to expand the capacity of its facilities in Colorado, Oklahoma, and Kansas to transport an additional 85,000 Decatherms per day of natural gas in order to increase capacity to points east and south of CIG's Campo Regulator Station. CIG seeks authority to construct and operate the following:

• 21.4 miles of 8-inch-diameter pipeline loop of 3C Keyes to Campo Loop in Cimarron County, Oklahoma and Baca County, Colorado;

• 48.1 miles of 20-inch-diameter loop of 11B Morton to Hooker Loop in Morton County, Kansas and Texas County, Oklahoma;

• New 4,700 hp Trinidad Compressor Station in Las Animas County, Colorado;

• New 8,900 hp Kim Compressor Station in Las Animas County, Colorado;

• Additional 4,450 hp compressor unit at the existing Keyes Compressor Station in Cimarron County, Oklahoma;

• Recylindering of the compressors at the Beaver County Compressor Station in Beaver County, Oklahoma; and

• Facilities for blending of low and high BTU gas within the existing Campo Regulator Station yard in Baca County, Colorado.

The location of the project facilities is show in appendix 1.

Land Requirements for Construction

Construction of the proposed facilities would require about 802 acres of land. About 95 percent of the project would be within 50 feet of existing pipelines. Following construction, about 429.0 acres would be maintained as permanent pipeline right-of-way and about 21.5 acres would be maintained as new aboveground facility sites. The remaining 351.5 acres of land would be restored and allowed to revert to its former use.

The EA Process

The National Environmental Policy Act (NEPA) requires the Commission to take into account the environmental impacts that could result from an action whenever it considers the issuance of a Certificate of Public Convenience and Necessity. NEPA also requires us ² to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our” refer to the environmental staff of the Office of Energy Projects (OEP).

The EA will discuss impacts that could occur as a result of the construction and operation of the proposed project under these general headings:

• Geology and soils.

• Water resources, fisheries, and wetlands.

• Vegetation and wildlife.

• Endangered and threatened species.

• Public safety.

• Land use.

• Cultural resources.

• Air quality and noise.

• Hazardous waste.

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by CIG. This preliminary list of issues may be changed based on your comments and our analysis.

• Eight federally listed endangered or threatened species may occur in the proposed project area.

• The project would cross 14 waterbodies and 8 wetlands.

• The project would cross about 32.7 acres of Comanche National Grasslands, and about 73.2 acres of Cimarron National Grasslands.

• The project would cross the Santa Fe National Historic Trail.

• The pipeline facilities would disturb about 322.2 acres of agricultural land.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send original and two copies of your letter to: David P. Boergers, Secretary, Federal Energy Regulatory Commission, 888 First St., NE., Room 1A, Washington, DC 20426.

• Label one copy of the comments for the attention of Gas 2.

• Reference Docket No. CP00-452-000.

• Mail your comments so that they will be received in Washington, DC on or before November 20, 2000.

If you do not want to send comments at this time but still want to remain on our mailing list, please return the Information Request (appendix 3). If you do not return the Information Request, you will be taken off the mailing list. Beginning November 1, 2000, comments and protests may be filed electronically via the internet in lieu of paper. See, 18 CFR 385.2001(a)(1)(iii) and the instructions on the Commission's web site at http;//www.ferc.fed.us/efi/doorbell.htm.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-0004 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 00-27489 Filed 10-25-00; 8:45 am]

BILLING CODE 6717-01-M